DEPARTMENT OF THE TREASURY

Privacy Act of 1974; System of Records

AGENCY: Office of Civil Rights and Diversity, Department of the Treasury.

ACTION: Notice of a modified system of records.

SUMMARY: In accordance with the Privacy Act of 1974, the Department of the Treasury (“Treasury” or the “Department”) proposes to modify the current Treasury system of records titled, “Department of the Treasury, SORN .016—Reasonable Accommodations Records System of Records.” The purpose of this system is to allow Treasury and its bureaus to collect and maintain records on: Applicants for employment who have disabilities; individuals with disabilities to facilitate their participation in a Treasury program or activity, including attendance at a meeting, training, conference or other Treasury-sponsored event at either a Treasury facility or outside Treasury employees who seek accommodations to allow them to perform the essential functions of their job; employees with disabilities who request or receive reasonable accommodation as required by the Department as the Rehabilitation Act of 1973 and the Americans with Disabilities Act, as amended by the Americans with Disabilities Amendment Act of 2008 (ADAAA); individuals who receive accommodations under the Family Medical Leave Act, and individuals who request or receive accommodations under Title VII of the Civil Rights Act of 1964. Another purpose of this system is to track and report the processing of Treasury-wide requests for reasonable accommodation while ensuring compliance with applicable laws and regulations, including confidentiality requirements protecting information individuals submit in support of accommodation requests.

DATES: Submit comments on or before November 26, 2021. The new and/or significantly modified routine uses will be applicable on November 26, 2021.

ADDRESSES: Comments may be submitted to the Federal eRulemaking Portal electronically at http://www.regulations.gov. Electronic submission of comments allows the commenter maximum time to prepare and submit a comment, ensures timely receipt, and enables the Treasury to make the comments available to the public. Please note that public comments are submitted through https://www.regulations.gov, a public website. All comments will be public and capable of viewing by other members of the public. Due to COVID-19-related restrictions, Treasury has temporarily suspended the public's ability to provide comments by mail. In general, Treasury will post all comments to https://www.regulations.gov without change, including any business or personal information provided, such as names, addresses, email addresses, or telephone numbers. All comments received, including attachments and other supporting material, will be part of the public record and subject to public disclosure. You should only submit information that you wish to make publicly available.

FOR FURTHER INFORMATION CONTACT: For general questions please contact: Snider Page, (202) 622-1160, Office of Civil Rights and Diversity, Departmental Offices, 1500 Pennsylvania Avenue NW, Washington, DC 20220. For privacy issues, please contact: The Department of the Treasury, Office of Privacy and Civil Liberties via email at privacy@treasury.gov.

SUPPLEMENTARY INFORMATION: In accordance with the Privacy Act of 1974, 5 U.S.C. 552a, the Department of the Treasury (“Treasury”), Office of Civil Rights and Diversity proposes to modify the current Treasury system of records titled, “Department of the Treasury SORN .016—Reasonable Accommodations Records System of Records.”

The proposed modification to the system of records makes the following substantive changes:

1. Treasury .016—Reasonable Accommodations Records System of Records is being modified to add new authority to collect and maintain information required to process accommodation requests provided under Title VII of the Civil Rights Act of 1964, as amended, which protects employees and job applicants from employment discrimination based on race, color, religion, sex, and national origin.

2. Treasury .016—Reasonable Accommodations Records System of Records is being modified to add Executive Orders 14042, Ensuring Adequate COVID Safety Protocols for Federal Contractors (September 09, 2021) and 14043, Requiring Coronavirus Disease 2019 Vaccination for Federal Employees (September 09, 2021).

3. Treasury .016—Reasonable Accommodations Records System of Records is being modified to make the existing routine use language consistent with Office of Management Budget's (OMB) requirements and Treasury's standard routine uses and to delete the existing routine uses B, E, and H to avoid redundancy (after inclusion of the new routine uses.

The effect of this updated system on individual's privacy is the risk of unauthorized access. This risk is mitigated with access restrictions, strict application of need to know, privacy and security notices consistent with the Privacy Act 5 U.S.C. 552a(b)(1), and a confidentiality warning consistent with the Americans with Disabilities Act of 1990, Public Law 101-336, 104 Stat. 328 (1990), as amended by the ADAA.

This risk is also mitigated by Treasury policies, rules and regulations, and other federal laws applicable to accessing, collecting, maintaining, and disclosing information from this system. The Department of the Treasury monitors, records, and audits system usage and access. Unauthorized or improper access and/or use of the records maintained in the system is prohibited and may result in civil and criminal penalties pursuant to 5 U.S.C. 552a(i)(1), (2), and (3). When information from this system is disclosed, the individual disclosing the information is required to inform the recipients regarding the confidentiality requirements with which the recipient must comply after disclosure.

Treasury will include this modified system in its inventory of record systems.

Below is the description of Treasury.016—Reasonable Accommodations Records System of Records.

Treasury provided a report of this system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016.

Dated: October 4, 2021.
Ryan Law,
Deputy Assistant Secretary for Privacy, Transparency, and Records.

SYSTEM NAME AND NUMBER:

Department of the Treasury, Reasonable Accommodations Records—Treasury .016.

SECURITY CLASSIFICATION:

Unclassified.

SYSTEM LOCATION:

The Department of the Treasury, 1500 Pennsylvania Ave. NW, Washington, DC 20220. The records are located in personnel, Equal Employment Opportunity (EEO), or designated offices in the bureaus or offices in which the reasonable accommodations were filed. The locations at which the system is maintained are:

(1) Departmental Offices: 1500 Pennsylvania Ave. NW, Washington, DC 20220;

(2) Alcohol and Tobacco Tax and Trade Bureau: 1310 G St. NW, Washington, DC 20220.

(3) Office of the Comptroller of the Currency: Constitution Center, 400 Seventh St. SW, Washington, DC 20024;

(4) Fiscal Service: Liberty Center Building, 401 14th St. SW, Washington, DC 20227;

(5) Internal Revenue Service: 1111 Constitution Ave. NW, Washington, DC 20224;

(6) United States Mint: 801 Ninth St. NW, Washington, DC 20220;

(7) Bureau of Engraving and Printing: Eastern Currency Facility, 14th and C Streets SW, Washington, DC 20228 and Western Currency Facility, 9000 Blue Mound Rd., Fort Worth, TX 76131;

(8) Financial Crimes Enforcement Network: P.O. Box 39, Vienna, VA 22183-0039;

(9) Special Inspector General for the Troubled Asset Relief Program (SIGTARP): 1801 L St. NW, Washington, DC 20220;

(10) Office of Inspector General: 740 15th St. NW, Washington, DC 20220; and

(11) Office of the Treasury Inspector General for Tax Administration: 1125 15th St. NW, Suite 700A, Washington, DC 20005.

SYSTEM MANAGER(S):

EEO Program Manager (202-622-1160), Office of Civil Rights and Diversity, Department of the Treasury, 1500 Pennsylvania Ave. NW, Washington, DC 20220.

AUTHORITY FOR MAINTENANCE OF THE SYSTEM:

The Rehabilitation Act of 1973, §§ 501 and 504, Public Law 93-112, as amended; the Americans with Disabilities Act of 1990, Public Law 101-336 (1990), as amended by the ADA Amendments Act of 2008 (ADAA), Public Law 110-325 (2009); Title VII of the Civil Rights Act of 1964, Public Law 88-352, as amended; and the Family and Medical Leave Act of 1993, Public Law 103-3 (1993), as amended; Executive Order 13164 (July 28, 2000); and Executive Order 13548 (July 26, 2010); Executive Order 14042 (September 09, 2021); and Executive Order 14043 (September 09, 2021).

PURPOSE(S) OF THE SYSTEM:

The purpose of this system is to allow Treasury, its bureaus and offices to collect and maintain records on individuals who seek or receive accommodations to facilitate their participation in a Treasury program or activity, their attendance at a meeting, training, conference or event at a Treasury facility or sponsored by Treasury, and employees and applicants for employment who request or receive reasonable accommodation by the Department under the Rehabilitation Act of 1973, as amended, the Americans with Disabilities Act of 1990, as amended by the ADAAA, and Title VII of the Civil Rights Act of 1964, as amended. Additionally, this system allows Treasury to collect records related to leave requests under the Family and Medical Leave Act of 1993, including accommodation requests and information. Another purpose of this system is to track and report the processing of requests for reasonable accommodation Treasury-wide to comply with applicable laws and regulations and to preserve and maintain the confidentiality of the information provided in support of the accommodation request.

CATEGORIES OF INDIVIDUALS COVERED BY THE SYSTEM:

Categories of individuals covered by this system include applicants for employment and employees who request or receive reasonable accommodations under: The Rehabilitation Act of 1973, Public Law 93-112, as amended, the Americans with Disabilities Act of 1990, Public Law 101-336 (1990), as amended by the Americans with Disabilities Act Amendments Act of 2008 (ADAA); Title VII of the Civil Rights Act of 1964, Public Law 88-352, as amended; and employees who request leave under the Family and Medical Leave Act of 1993 (FMLA), Public Law 103-3 (1993), as amended. This also includes participants in Treasury programs and activities, visitors at Treasury facilities (and Treasury-sponsored events at other facilities), and authorized individuals or representatives (e.g., family member or attorney) who request a reasonable accommodation on behalf of an applicant for employment or employee. It also includes current employees who request or receive and former employees who requested or received a reasonable accommodation or leave (under FMLA) during their employment with Treasury.

CATEGORIES OF RECORDS IN THE SYSTEM:

• Requestor's status (applicant or anybody who identifies or recognizes the need for an accommodation at a Treasury facility);

• First, middle, and last name of the person who requires the accommodation;

• Address, phone number, and email address of the person who requires the accommodation;

• Date of request;

• Meeting or other event for which the request was made (room number, date and time of the meeting/event);

• Program or activity for which the request was made;

• Job (occupational series, grade level, and bureau or office) for which reasonable accommodation was requested; and

• Information concerning the nature of the disability and/or the need for accommodation, including appropriate medical or other documentation when the disability and/or need for accommodation is not obvious or the accommodation cannot be easily provided with little effort or expense.

Information concerning the nature of the disability and/or need for accommodation includes:

• Medical documentation provided by the requester or at the requestor's direction or request (e.g., by a representative or the individual's healthcare provider) as required to substantiate an individual's disability or need to care themself or a family member (medical documentation supporting the reasonable accommodation request must be kept in a confidential file separate and apart from the requestor's Official Personnel Folder, Employee Performance File, or drop file);

• Information related to employees and their family members, including, but not limited to, first, middle, and last name, relationship to the employee, as required to substantiate need to care for a new child, recover from a serious illness, or care for a seriously ill family member.

• Type(s) of accommodation(s) requested or received;

• Request approvals and denials notice of procedures for informal dispute resolution or appeal processes, forms, correspondence, records of oral conversations, policy guidance documents, and supporting notes and documentation.

• Expense(s) information associated with the requested accommodation;

• Information about a requestor's religious beliefs, voluntarily provided by the requestor in support of a request for accommodation or exemption from a requirement or penalty;

• Whether the request came from someone planning to visit a Treasury facility;

• Whether an accommodation requested or provided occurred pre-employment, during current or former employment or for a particular event;

• How the requested accommodation would assist in job performance, participation in a Treasury program or activity, or attendance at a Treasury-sponsored meeting or event;

• The amount of time taken to process the request;

• Whether the request was granted or denied and reason; and

• The sources of technical assistance consulted in trying to identify a possible reasonable accommodation.

RECORD SOURCE CATEGORIES:

Information is obtained from applicants for employment with disabilities as well as employees with disabilities, employees seeking leave under FMLA, participants in Treasury programs and activities, visitors at Treasury facilities, and authorized individuals or representatives (e.g., family member or attorney) who requested or received reasonable accommodations from Treasury, its bureaus or offices as required by the Rehabilitation Act of 1973, the ADAAA, and Title VII of the Civil Rights Act, as amended.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows:

(1) To the United States Department of Justice (“DOJ”), for the purpose of representing or providing legal advice to the Department in a proceeding before a court, adjudicative body, or other administrative body before which the Department is authorized to appear, when such proceeding involves:

(a) The Department or any component thereof;

(b) Any employee of the Department in his or her official capacity;

(c) Any employee of the Department in his or her individual capacity where DOJ or the Department has agreed to represent the employee; or

(d) The United States, when the Department determines that litigation is likely to affect the Department or any of its components; and the use of such records by the DOJ is deemed by the DOJ or the Department to be relevant and necessary to the litigation provided that the disclosure is compatible with the purpose for which records were collected.

(2) To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations;

(3) To a Congressional office in response to an inquiry made at the request of the individual to whom the record pertains;

(4) To the National Archives and Records Administration Archivist (or the Archivist's designee) pursuant to records management inspections being conducted under the authority of 44 U.S.C. 2904 and 2906;

(5) To appropriate agencies, entities, and person when (1) the Department of the Treasury and/or Office of Civil Rights and Diversity suspects or has confirmed that there has been a breach of the system of records; (2) the Department of the Treasury and/or Office of Civil Rights and Diversity has determined that as a result of the suspected or confirmed breach there is a risk of harm to individuals, the Department of the Treasury and/or Office of Civil Rights and Diversity (including its information systems, programs, and operations), the Federal Government, or national security; and (3) the disclosure made to such agencies, entities, and persons is reasonably necessary to assist in connection with the Department of the Treasury's and/or Office of Civil Rights and Diversity efforts to respond to the suspected or confirmed breach or to prevent, minimize, or remedy such harm;

(6) To another Federal agency or Federal entity, when the Department of the Treasury and/or the Office of Civil Rights and Diversity determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(7) To medical personnel to meet a bona fide medical emergency;

(8) To an authorized appeal grievance examiner, formal complaints examiner, administrative judge, equal employment opportunity investigator, arbitrator or other duly authorized official engaged in investigation or settlement of a grievance, complaint or appeal filed by an employee;

(9) To an actual or potential party to litigation or the party's authorized representative for the purpose of negotiation or discussion on such matters as settlement, plea bargaining, or in information discovery proceedings; and

(10) To contractors, grantees, experts, consultants, students, interns, and others performing or working on a contract, service, grant, cooperative agreement, or other assignment for the federal government, when necessary to accomplish an agency function related to this system of records.

POLICIES AND PRACTICES FOR STORAGE OF RECORDS:

Records in this system are on paper and/or in digital or other electronic form. Digital and other electronic images are stored on a storage area network in a secured environment. Records, whether paper or electronic, may be stored in a separate, secure location at the Treasury Headquarters or at the bureau or office level.

POLICIES AND PRACTICES FOR RETRIEVAL OF RECORDS:

Records may be retrieved by name of the requester, employing bureau or office, or any unique identifying number assigned to the request if applicable.

POLICIES AND PRACTICES FOR RETENTION AND DISPOSAL OF RECORDS:

In accordance with NARA General Records Schedule (GRS) 2.3 (Employee Relations Records) item 20 (Reasonable accommodation case files), this schedule includes all individual employee files created, received, and maintained by Treasury's Equal Employment Opportunity (EEO) reasonable accommodation, diversity/disability programs, employee relations coordinators, supervisors, administrators, or Human Resource specialists containing records of requests for reasonable accommodation and/or assistive technology devices and services that have been requested for or by an employee. This includes: Requests, approvals and denials, notice of procedures for informal dispute resolution or appeal processes, forms, correspondence, records of oral conversations, policy guidance documents, medical records, supporting notes and documentation.

Disposition Authority: DAA-GRS2018-0002-0002.

Disposition Instruction: Temporary. Destroy three (3) years after employee separation from the agency or all appeals are concluded whichever is later, but longer retention is authorized if required for business use.

ADMINISTRATIVE, TECHNICAL, AND PHYSICAL SAFEGUARDS:

Records in this system are safeguarded in accordance with applicable rules and policies, including all applicable Treasury automated systems security and access policies. Strict controls have been imposed to minimize the risk of information compromise. Access to the computer system(s) containing the records in this system are limited to those individuals who have a need to know the information for the performance of their official duties and who have appropriate clearances or permissions.

All medical information, including information about functional limitations and reasonable accommodation needs obtained in connection with a request for reasonable accommodation or FMLA leave must be kept confidential and shall be maintained in secure files separate from the Official Personnel Folder, Employee Performance File, or drop file. Additionally, employees who obtain or receive such information are strictly bound by these confidentiality requirements. Whenever medical information is disclosed, the individual disclosing the information must inform the information recipients regarding the confidentiality requirements that the recipient must continue to apply to the information after it is received.

RECORD ACCESS PROCEDURES:

See “Notification procedure” below.

CONTESTING RECORD PROCEDURES:

See “Notification procedure” below.

NOTIFICATION PROCEDURES:

Individuals seeking notification of and access to any record contained in this system of records, or seeking to contest its content, may submit a request in writing in accordance with Treasury's Privacy Act regulations (located at 31 CFR 1.26) to the Freedom of Information Act (FOIA) and Transparency Liaison, whose contact information can be found at http://www.treasury.gov/FOIA/Pages/index.aspx under “FOIA Requester Service Centers and FOIA Liaison.” If an individual believes more than one bureau maintains Privacy Act records concerning him or her, the individual may submit the request to the Office of Privacy, Transparency, and Records, FOIA and Transparency, Department of the Treasury, 1500 Pennsylvania Ave. NW, Washington, DC 20220. The request must be signed, and must either be notarized or submitted under 28 U.S.C. 1746, a law that permits statements to be made under penalty of perjury as a substitute for notarization. While no specific form is required, you may submit your request online at https://rdgw.treasury.gov/foia/pages/gofoia.aspx or call for 1-202-622-0930 for questions. The requester must submit a written and signed request that:

• States that the request is made pursuant to the FOIA and/or Privacy Act disclosure regulations;

• Includes information that will enable the processing office to determine the fee category of the user;

• Is addressed to the bureau that maintains the record (in order for a request to be properly received by the Department, the request must be received in the appropriate bureau's disclosure office);

• Reasonably describe the records;

• Gives the address where the determination letter is to be sent;

• States whether or not the requester wishes to inspect the records or have a copy made without first inspecting them; and

• Include a firm agreement from the requester to pay fees for search, duplication or review, as appropriate. In the absence of a firm agreement to pay, the requester may submit a request for a waiver or reduction of fees, along with justification of how such a waiver request meets the criteria for a waiver or reduction of fees found in the FOIA statute at 5 U.S.C. 552(a)(4)(A)(iii).

This bulleted information will assist the FOIA and Transparency staff in conducting an effective search for your records.

EXEMPTIONS PROMULGATED FOR THE SYSTEM:

None.

HISTORY:

Notice of this system of records was last published in full in the Federal Register on November 7, 2016 as Treasury .016—Reasonable Accommodations Records—81 FR 78266.

[FR Doc. 2021-23252 Filed 10-25-21; 8:45 am]

BILLING CODE 4810-25-P